DEPARTMENT OF ENERGY

Federal Energy Regulatory Commission

[Docket No. CP22-466-000]

WBI Energy Transmission, Inc.; Notice of Availability of the Draft Environmental Impact Statement for the Proposed Wahpeton Expansion Project

The staff of the Federal Energy Regulatory Commission (FERC or Commission) has prepared a draft environmental impact statement (EIS) for the Wahpeton Expansion Project, proposed by WBI Energy Transmission, Inc. (WBI Energy) in the above-referenced docket. WBI Energy requests authorization to construct and operate the Wahpeton Expansion Project, which would provide an incremental 20,600 equivalent dekatherms per day of firm natural gas transportation capacity from WBI Energy's existing Mapleton Compressor Station to the proposed Montana Dakota Utilities (MDU)-Kindred and MDU-Wahpeton Border Stations to provide natural gas services to the communities of Kindred and Wahpeton, North Dakota.

The draft EIS assesses the potential environmental effects of the construction and operation of the Wahpeton Expansion Project in accordance with the requirements of the National Environmental Policy Act (NEPA). Commission staff concludes that approval of the proposed project, with the mitigation measures recommended in the EIS, would result in some adverse environmental impacts. Most of these impacts would be temporary and occur during construction (e.g., impacts on wetlands, land use, traffic, and noise). With the exception of climate change impacts that are not characterized in the EIS as significant or insignificant, Commission staff conclude that project effects would not be significant. As part of the analysis, Commission staff developed specific mitigation measures (included in the draft EIS as recommendations). Staff recommend that these mitigation measures be attached as conditions to any authorization issued by the Commission.

The Wild Rice River Route Alternative—Milepost (MP) 55 would affect landowners that have not been part of the FERC's environmental scoping process, as further discussed on page 4. Therefore, by this letter we are notifying these parties of our evaluation and requesting comments about this route alternative presented in section 3.3.1 of the draft EIS.

The draft EIS addresses the potential environmental effects of the construction and operation of the following project facilities, in Cass and Richland Counties, North Dakota:

• a new 60.5-mile-long, 12-inch-diameter natural gas pipeline;

• minor modifications to WBI Energy's existing Mapleton Compressor Station;

• a new MDU-Wahpeton Border Station;

• a new MDU-Kindred Border Station;

• seven new block valve settings;

• four new pig launcher/receiver settings; and

• ancillary facilities.

The Commission mailed a copy of the Notice of Availability of the draft EIS to federal, state, and local government representatives and agencies; elected officials; environmental and public interest groups; Native American tribes; potentially affected landowners and other interested individuals and groups; and newspapers and libraries in the project area. The draft EIS is only available in electronic format. It may be viewed and downloaded from FERC's website (www.ferc.gov), on the natural gas environmental documents page (https://www.ferc.gov/industries-data/natural-gas/environment/environmental-documents). In addition, the draft EIS may be accessed by using the eLibrary link on FERC's website. Click on the eLibrary link (https://elibrary.ferc.gov/eLibrary/search), select “General Search” and enter the docket number in the “Docket Number” field, excluding the last three digits (i.e., CP22-466). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on draft EIS's disclosure and discussion of potential environmental effects, measures to avoid or lessen environmental impacts, and the completeness of the submitted alternatives, information and analyses. To ensure consideration of your comments on the proposal in the final EIS, it is important that the Commission receive your comments on or before 5:00 p.m. Eastern Time on December 27, 2022.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

1. You can file your comments electronically using the eComment feature on the Commission's website (www.ferc.gov) under the link to FERC Online. This is an easy method for submitting brief, text-only comments on a project;

2. You can file your comments electronically by using the eFiling feature on the Commission's website (www.ferc.gov) under the link to FERC Online. With filing, you can provide comments in a variety of formats by attaching them as a file with your submission. New eFiling users must first create an account by clicking on “eRegister.” If you are filing a comment on a particular project, please select “Comment on a Filing” as the filing type; or

3. You can file a paper copy of your comments by mailing them to the Commission. Be sure to reference the project docket number (CP22-466-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

4. In lieu of sending written or electronic comments, the Commission invites you to attend one of the public comment sessions its staff will conduct in the project area to receive comments on the draft EIS, scheduled as follows:

Date and time | Location
Tuesday, November 29, 2022, 5:00 p.m.-7:00 p.m | Wahpeton City Hall, 1900 4th Street N, Wahpeton, ND 58075, (701) 591-2110.
Wednesday, November 30, 2022, 5:00 p.m.-7:00 p.m | Kindred High School, 225 Dakota Street, Kindred, ND 58051, (701) 428-3177.

The primary goal of these comment sessions is to have you identify the specific environmental issues and concerns with the draft EIS. Individual verbal comments will be taken on a one-on-one basis with a court reporter. This format is designed to receive the maximum amount of verbal comments, in a convenient way during the timeframe allotted.

Each comment session is scheduled from 5:00 p.m. to 7:00 p.m. Central Standard Time. You may arrive at any time after 5:00 p.m. There will not be a formal presentation by Commission staff when the session opens. Comments will be taken until 7:00 p.m. Please see appendix 1 for additional information on the session format and conduct.¹

¹ The appendices referenced in this notice will not appear in the Federal Register. Copies of the appendices were sent to all those receiving this notice in the mail and are available at www.ferc.gov using the link called “eLibrary” or call (202) 502-8371.

Your verbal comments will be recorded by the court reporter (with FERC staff or representative present) and become part of the public record for this proceeding. Transcripts will be publicly available on FERC's eLibrary system (see page 2 for instructions on using eLibrary). If a significant number of people are interested in providing verbal comments in the one-on-one settings, a time limit of 5 minutes may be implemented for each commentor. Although there will not be a formal presentation, Commission staff will be available throughout the comment session to answer your questions about the environmental review process.

It is important to note that the Commission provides equal consideration to all comments received, whether filed in written form or provided orally at a comment session.

Any person seeking to become a party to the proceeding must file a motion to intervene pursuant to Rule 214 of the Commission's Rules of Practice and Procedures (18 CFR part 385.214). Motions to intervene are more fully described at https://www.ferc.gov/how-intervene. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Route Alternative

As indicated on page 1, some landowners are receiving this draft EIS because their property has been identified as potentially being affected by the Wild Rice River Route Alternative—MP 55, which is recommended by FERC staff to avoid or lessen environmental impacts along WBI Energy's proposed pipeline route. Section 3.3.1 of the draft EIS contains our analysis and discussion of this alternative. The Commission staff wants to ensure that all potentially affected landowners have the opportunity to participate in the environmental review process, thus staff is soliciting comments to assist with the environmental analysis of this route alternative, which will be presented in the final EIS.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: November 3, 2022.
Debbie-Anne A. Reese,
Deputy Secretary.

[FR Doc. 2022-24442 Filed 11-8-22; 8:45 am]

BILLING CODE 6717-01-P